DEPARTMENT OF EDUCATION

[CFDA No.: 84.128G]

Migrant and Seasonal Farmworkers Program; Notice Inviting Applications for New Awards for Fiscal Year (FY) 2002

Purpose of Program: To provide grants for vocational rehabilitation services to individuals with disabilities who are migrant or seasonal farmworkers, (individuals who have been determined in accordance with rules prescribed by the Secretary of Labor), and to the family members who are residing with those individuals (whether or not those family members are individuals with disabilities).

Eligible Applicants: State designated agencies; nonprofit agencies working in collaboration with a State agency; and local agencies working in collaboration with a State agency.

Applications Available: November 5, 2001.

Deadline for Transmittal of Applications: February 5, 2002.

Deadline for Intergovernmental Review: April 6, 2002.

Estimated Available Funds: $639,498.

Estimated Range of Awards: $150,000—$170,000.

Estimated Average Size of Awards: $165,000.

Estimated Number of Awards: 4.

Note: The Department is not bound by any estimates in this notice.

Project Period: Up to 60 months.

Applicable Regulations: The Education Department General Administrative Regulations (EDGAR) in 34 CFR parts 74, 75, 77, 79, 80, 81, 82, 85, and 86.

Note: The regulations in 34 CFR part 79 apply to all applicants except federally recognized Indian tribes.

Note: The regulations in 34 CFR part 86 apply to institutions of higher education only.

Priorities

Invitational Priority

We are particularly interested in applications that meet the following priority:

Applications for projects that provide vocational rehabilitation services including, but not limited to, vocational skills development, job placement, job training, occupational skills training programs, cultural awareness, language skills development, life skills (e.g., health, education, socialization), English as a Second Language, dissemination of employment information, and training workshops.

Under 34 CFR 75.105(c)(1) we do not give an application that meets the priority a competitive or absolute preferences over other applications.

Competitive Preference Priority

This competition focuses on projects designed to meet the priority in the notice of final competitive preference for this program, published in the Federal Register on November 22, 2000 (65 FR 70408). Under 34 CFR 75.105(c)(2)(i) we award up to an additional 10 points to an application, depending on the extent to which the application includes effective strategies for employing and advancing in employment qualified individuals with disabilities as project employees in projects awarded under this program. In determining the effectiveness of those strategies, we will consider the applicant's prior success, as described in the application, in employing and advancing in employment qualified individuals with disabilities.

The maximum score under the selection criteria for this program is 100 points; however, we will also use the competitive preference so that up to an additional 10 points may be earned by an applicant for a total possible score of 110 points.

For Applications Contact

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.128G.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

FOR FURTHER INFORMATION CONTACT: Mary E. Chambers, U.S. Department of Education, 400 Maryland Avenue, SW., room 3322, Switzer Building, Washington, DC 20202-2647. Telephone (202) 205-8435. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at:

http://www.access.gpo.gov/nara/index.html.

Program Authority: 29 U.S.C. 774.

Dated: October 25, 2001.
Robert H. Pasternack,
Assistant Secretary for Special Education and Rehabilitative Services.

[FR Doc. 01-27265 Filed 10-29-01; 8:45 am]

BILLING CODE 4000-01-P